DEPARTMENT OF ENERGY

Federal Energy Regulatory Commission

[Project No. 2216-066]

Niagara Project; Notice of Availability of the Draft Environmental Impact Statement for the Niagara Project and Intention To Hold Public Meetings

July 14, 2006.

In accordance with the National Environmental Policy Act of 1969 and the Federal Energy Regulatory Commission (Commission or FERC) regulations contained in the Code of Federal Regulations (CFR) (18 CFR part 380 [FERC Order No. 486, 52 FR 47897]), the Office of Energy Projects staff (staff) reviewed the application for a New Major License for the Niagara Project, and have prepared a draft environmental impact statement (DEIS) for the project which is located on the Niagara River in Niagara County, New York.

The DEIS contains staff's analysis of the applicant's proposal and the alternatives for relicensing the Niagara Project. The DEIS documents the views of governmental agencies, non-governmental organizations, affected Indian tribes, the public, the license applicant, and Commission staff.

A copy of the DEIS is available for review at the Commission or may be viewed on the Commission's Web site at http://www.ferc.gov, using the “e-Library” link. Enter the docket number, excluding the last three digits, to access the document. For assistance, contact FERC Online Support at FERCOnlineSupport@ferc.gov or toll-free at (866) 208-3676, or for TTY, contact (202) 502-8659.

You may also register online at http://www.ferc.gov/docs-filing/esubscription.asp to be notified via e-mail of new filings and issuances related to this or other pending projects. For assistance, contact FERC Online Support.

Comments should be filed with Magalie R. Salas, Secretary, Federal Energy Regulatory Commission, 888 First Street, NE., Washington, DC 20426. All Comments must be filed by September 19, 2006, and should reference the Niagara Project, Project No. 2216-066. Comments may be filed electronically via the Internet in lieu of paper. The Commission strongly encourages electronic filings. See 18 CFR 385.2001(a)(1)(iii) and instructions on the Commission's Web site at http://www.ferc.gov under the eLibrary link.

Anyone may intervene in this proceeding based on this DEIS (18 CFR 380.10). You must file your request to intervene as specified above.¹ You do not need intervenor status to have your comments considered.

¹ Interventions may also be filed electronically via the Internet in lieu of paper. See the previous discussion on filing comments electronically.

In addition to or in lieu of sending written comments, you are invited to attend a public meeting that will be held to receive comments on the DEIS. The exact time and place of the meeting will be determined soon and announced in a separate notice. At this time, Commission staff intend to hold the meeting in either Niagara Falls or Lewiston near the middle of August.

For further information, please contact Steve Kartalia at (202) 502-6131 or at Stephen.Kartalia@ferc.gov.

Magalie R. Salas,
Secretary.

[FR Doc. E6-11660 Filed 7-21-06; 8:45 am]

BILLING CODE 6717-01-P